DEPARTMENT OF DEFENSE

Office of the Secretary

[Transmittal No. 19-0E]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0E.

Dated: March 7, 2019.
Aaron T. Siegel,
Alternate OSD Federal Register Liaison Officer, Department of Defense.

BILLING CODE 5001-06-P

BILLING CODE 5001-06-C

Transmittal No. 19-0E

Report of Enhancement or Upgrade of Sensitivity of Technology or Capability (Sec. 36(B)(5)(C), AECA)

(i) Purchaser: Government of Canada

(ii) Sec. 36(b)(1), AECA Transmittal No.: 17-57

Date: October 30, 2017

Military Department: Air Force

(iii) Description: On October 30, 2017, Congress was notified by Congressional certification transmittal number 17-57, of the possible sale under Section 36(b)(1) of the Arms Export Control Act of up to thirty-two (32) AIM-120D Advanced Medium-Range Air-to Air Missiles (AMRAAMs), up to eighteen (18) AMRAAM Captive Air Training Missiles (CATMs); up to four (4) AMRAAM Non-Development Item—Airborne Instrumentation Units (NDI-AIU); up to two (2) AMRAAM Instrumented Test Vehicles (ITV); up to seven (7) spare AMRAAM guidance units; up to four (4) spare AMRAAM control sections; containers; storage and preservation; transportation; aircrew and maintenance training; training aids and equipment, spares and repair parts; warranties; weapon system support and test equipment; publications and technical documentation; software development, integration, and support; system integration and testing; U.S. Government and contractor engineering, technical, and logistics support; and other related elements of logistics and program support. The estimated total cost was $140 million. Major Defense Equipment (MDE) constituted $130 million of this total.

This transmittal reports the inclusion of up to eighty-eight (88) AIM-120D Advanced Medium-Range Air-to Air Missiles (AMRAAMs) beyond the number enumerated in the original notification (for a total of one hundred twenty (120) AIM-120D AMRAAMs),—as well as the increase of up to sixteen (16) spare AMRAAM guidance units (for a total of twenty-three (23) spare AMRAAM guidance units), and eight (8) spare AMRAAM control sections (for a total of twelve (12) spare AMRAAM control sections). The revised MDE value is $280 million and the revised total case value is $308 million.

(iv) Significance: The inclusion of this MDE equipment represents an increase in capacity over what was previously notified. Canada is seeking additional AIM-120D AMRAAMs to replenish its stocks of medium-range missiles for its CF-18 Hornet fleet.

(v) Justification: This proposed sale will support the foreign policy and national security objectives of the United States by helping to improve the security of a NATO ally which is a key democratic partner of the United States in ensuring peace and stability. This proposed sale of defense articles and services is required to enable Royal Canadian Air Force (RCAF) fighters to optimally fulfill both North American Aerospace Defense (NORAD) and NATO missions and also meets the U.S. Northern Command's goals of combined air operations interoperability and standardization between Canadian and U.S. forces. The RCAF will have no difficulty absorbing these missiles into its inventory.

(vi) Sensitivity of Technology: The statement contained in the original AECA 36(b)(1) transmittal applies to the MDE items reported here.

(vii) Date Report Delivered to Congress: February 21, 2019

[FR Doc. 2019-04553 Filed 3-12-19; 8:45 am]

BILLING CODE 5001-06-P